SECURITIES AND EXCHANGE COMMISSION

[Release No. 34-87143; File No. SR-CboeEDGA-2019-014]

Self-Regulatory Organizations; Cboe EDGA Exchange, Inc.; Suspension of and Order Instituting Proceedings To Determine Whether To Approve or Disapprove a Proposed Rule Change Amending the Fee Schedule Assessed on Members To Establish a Monthly Trading Rights Fee

September 27, 2019.

Correction

In Notice document 201-21473, appearing on pages 52922-52925, in the issue of Thursday, October 3, 2019, make the following correction:

On page 52925, in the second column, beginning on the eighth line, the date reading “November 6, 2019” should read November 7, 2019”.

[FR Doc. C1-2019-21473 Filed 10-17-19; 8:45 am]

BILLING CODE 1301-00-D